DEPARTMENT OF DEFENSE

Department of the Army

Army Science Board Summer Study Meeting

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (41 CFR 102-3. 140 through 160, the Department of the Army announces the following committee meeting:

Name of Committee: Army Science Board (ASB).

Date(s) of Meeting: July 26, 2012.

Time(s) of Meeting: 1530-1630.

Location: MIT Endicott House, 80 Haven Street, Dedham, MA 02026.

Purpose: Adopt the findings and recommendations for the following studies:

Strategic Direction for Army Science and Technology and Small Unit Data to Decisions.

Proposed Agenda:

Thursday 26 July 2012: 1530-1630—The study results for Strategic Direction for Army Science and Technology and Small Unit Data to Decisions studies are presented to the ASB. The ASB will deliberate and vote upon adoption of the findings and recommendations.

FOR FURTHER INFORMATION CONTACT: For information please contact Mr. Justin Bringhurst at justin.bringhurst@us.army.mil or (703) 617-0263 or Carolyn German at carolyn.t.german@us.army.mil or (703) 617-0258.

SUPPLEMENTARY INFORMATION: None.

Brenda S. Bowen,
Army Federal Register Liaison Officer.

[FR Doc. 2012-16544 Filed 7-5-12; 8:45 am]

BILLING CODE 3710-08-P